DEPARTMENT OF THE INTERIOR

Bureau of Land Management

[LLORM00000.L63100000.HD0000.16XL1116AF; HAG 16-0210]

Notice of Public Meeting for the Southwest Oregon Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Southwest Oregon Resource Advisory Council (RAC) will meet as indicated below.

DATES: The Southwest Oregon RAC will hold a public meeting Wednesday, October 12th, 2016 from 12:00 p.m. to 5:00 p.m. and Thursday, October 13th, 2016, from 8:00 a.m. to 4:00 p.m.

ADDRESSES: The Southwest Oregon RAC will meet at the Medford District Office, 3040 Biddle Road, Medford, OR 97504. The RAC will review and make recommendations on Secure Rural Schools and Community Self-Determination Act Title II project proposals. On Thursday, October 13th, the public comment period will occur from 8:15-9:00 a.m.

FOR FURTHER INFORMATION CONTACT: Christina Beslin, Coordinator for the Southwest Oregon RAC, 3040 Biddle Rd., Medford, OR 97504, (541) 618-2371, cbeslin@blm.gov, or Jim Whittington, Public Affairs Specialist, 3040 Biddle Rd., Medford, OR 97504, (541) 618-2220, jwhittin@blm.gov. Persons who use a telecommunications device for the deaf (TDD) may call the Federal Information Relay Service (FIRS) at 1 (800) 877-8339 to contact the above individuals during normal business hours. The FIRS is available 24 hours a day, 7 days a week, to leave a message or question with the above individuals. You will receive a reply during normal business hours.

SUPPLEMENTARY INFORMATION: The fifteen-member Southwest Oregon RAC was chartered to serve in an advisory capacity concerning the planning and management of the public land resources located within the BLM's Medford, Roseburg and Lakeview Districts. Members represent an array of stakeholder interests in the land and resources from within the local area and statewide. Planned agenda items include reviewing and voting on Recreation Fee submissions for Roseburg in Southwest Oregon. On the second day members of the public will have the opportunity to make comments to the RAC during a public comment period. All advisory committee meetings are open to the public. Persons wishing to make comments during the public comment period should register in person with the BLM, at the meeting location, proceeding that meeting day's comment period. Depending on the number of persons wishing to comment, the length of comments may be limited. The public may send written comments to the RAC at the Medford District office, 3040 Biddle Rd., Medford, OR 97504. The BLM appreciates all comments.

Elizabeth Burghard,
Medford District Manager.

[FR Doc. 2016-21823 Filed 9-9-16; 8:45 am]

BILLING CODE 4310-33-P